DEPARTMENT OF COMMERCE

National Oceanic and Atmospheric Administration

RIN 0648-XC58

Marine Mammals; File No. 1039-1916

AGENCY: National Marine Fisheries Service (NMFS), National Oceanic and Atmospheric Administration (NOAA), Commerce.

ACTION: Notice; receipt of application.

SUMMARY: Notice is hereby given that Ann Zoidis, Cetos Research Organization, 11 Des Isle Avenue, Bar Harbor, Maine, has applied in due form for a permit to conduct research on marine mammals in Hawaii and the Gulf of Maine.

DATES: Written, telefaxed, or e-mail comments must be received on or before October 17, 2007.

ADDRESSES: The application and related documents are available for review upon written request or by appointment in the following office(s):

Permits, Conservation and Education Division, Office of Protected Resources, NMFS, 1315 East-West Highway, Room 13705, Silver Spring, MD 20910; phone (301)713-2289; fax (301)427-2521;

Pacific Islands Region, NMFS, 1601 Kapiolani Blvd., Rm 1110, Honolulu, HI 96814-4700; phone (808)973-2935; fax (808)973-2941; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1039-1916.

FOR FURTHER INFORMATION CONTACT: Jaclyn Daly or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant is requesting to study 17 species of cetaceans in Hawaii and 10 species in the Gulf of Maine. The purpose of the research is to expand ESA and non-ESA listed species abundance, distribution, and acoustic data. More specifically, this research would provide information on diving and foraging behavior of cetaceans while acoustic studies would contribute to data investigating the relationship between repertoire, pod composition, and behavior. Research activities would include vessel surveys, photo-ID, passive acoustic recording, and behavioral observations for all species. Furthermore, suction-cup tagging of humpback (Megaptera novaeangliae), fin (Balaenoptera physalus), minke (Balaenoptera acutorostrata), sei (Balaenoptera borealis), and sperm (Physeter macrocephalus) whales would also occur. Tagging of sei, minke, and sperm whales would be limited to adults and subadults while all age classes, except neonates, of humpback and fin whales would be tagged. Underwater videography of humpback whales in Hawaii is also requested. No mortality is anticipated. The permit would be valid for 5 years from date of issuance.

Concurrent with the publication of this notice in the Federal Register, NMFS is forwarding copies of this application to the Marine Mammal Commission and its Committee of Scientific Advisors.

Dated: September 11, 2007.
P. Michael Payne,
Chief, Permits, Conservation and Education Division, Office of Protected Resources, National Marine Fisheries Service.

[FR Doc. E7-18295 Filed 9-14-07; 8:45 am]

BILLING CODE 3510-22-S